NATIONAL SCIENCE FOUNDATION

Notice of Permit Applications Received Under the Antarctic Conservation Act of 1978; Public Law 95-541

AGENCY: National Science Foundation.

ACTION: Notice of Permit Applications Received under the Antarctic Conservation Act of 1978, Public Law 95-541.

SUMMARY: The National Science Foundation (NSF) is required to publish notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by September 5, 2007. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas requiring special protection. The regulations establish such a permit system to designate Antarctic Specially Protected Areas.

The applications received are as follows:

Permit Application No.: 2008-007.

1. Applicant: Sam Feola, Director, Raytheon Polar Services Company, 7400 S. Tucson Way, Centennial, CO 80112.

Activity for Which Permit is Requested: Enter an Antarctic Specially Protected Area (ASPA). The applicant plans to enter the Cape Hallett (ASPA 106), Cape Royds (ASPA 121), Barwick and Balham Valleys (ASPA 123), Cape Crozer (ASPA 124), Northwest White Island (ASPA 137), and, Linnaeus Terrace (ASPA 138) to: Gather up-to-date information on site status and on any installations or facilities; verify that the values being protected are being maintained; verify that the management measures in place are sufficient to provide protection; and recommend any management measures that may be necessary to maintain the values being protected. Article 6.3 of Annex V to the Madrid Protocol requires “A review of a (ASPA) Management Plan shall be initiated at least every five years.” Updating of the ASPA management plan is the responsibility of the country that originally proposed the site, as in this case, the United States.

Location: Cape Hallett (ASPA 106), Cape Royds (ASPA 121), Barwick and Balham Valleys (ASPA 123), Cape Crozer (ASPA 124), Northwest White Island (ASPA 137), and, Linnaeus Terrace (ASPA 138).

Dates: October 1, 2007 to August 31, 2010.

Permit Application No.: 2008-008.

2. Applicant: Rennie S. Holt, Director, U.S. AMLR Program, Southwest Fisheries Science Center, National Marine Fisheries Service, 8604 La Jolla Shores Drive, La Jolla, CA 92038.

Activity for Which Permit is Requested: Take and enter an Antarctic Specially Protected Area (ASPA). The applicant proposes to enter Cape Shirreff (ASPA 149) to collect blood samples from 30 adult Gentoo and Chinstrap penguins each. In addition, time depth recorders (TDRs) and satellite tags (PTT) will be attached to the penguins to study the foraging ecology and diets of the penguins. The applicant also plans to collect DNA samples from 50 Antarctic Fur seals flippers. These samples will be used to estimate probability of full sib-half sib for successive matings of individual females and will provide information on female choice and degree of site fidelity in breeding. Finally, the applicant would like to annually salvage up to 3 adult females and five pups of Antarctic Fur seals due to accidental mortality. Also the applicant would like to annually salvage up to 2 Leopard seals of any age class due to accidental mortality. Salvage animals will be used for study back at the home institution.

Location: Cape Shirreff, Livingston Island (ASPA 149).

Dates: November 1, 2007 to April 30, 2011.

Permit Application No.: 2008-009.

3. Applicant: Sam Feola, Director, Raytheon Polar Services Company, 7400 S. Tucson Way, Centennial, CO 80112.

Activity for Which Permit is Requested: Enter an Antarctic Specially Protected Areas. The applicant proposes to enter the Byers Peninsula, Livingston Island Antarctic Specially Protected Area No. 126 to establish, resupply, transport personnel, and tear down a temporary scientific field camp. Paleontological field work will be conducted at the site under separate permit. Access to the site will be via zodiac from the scientific vessel, ARSV Laurence M. Gould.

Location: Byers Peninsula, Livingston Island (ASPA 126).

Dates: 20 November 2007 to December 31, 2008.

Permit Application No.: 2008-010.

4. Applicant: David Caron, Department of Biological Sciences, University of Southern California, 3616 Trousdale Parkway, AHF 301, Los Angeles, CA 90089.

Activity for Which Permit is Requested: Introduce non-indigenous species into Antarctica. The applicant proposes to bring genetically engineered E. coli cells for the creation of gene clone libraries. The cells are provided as part of the cloning kits to be used in experiments onboard the R/V Nathaniel B. Palmer. At no time will cells be released into the environment and any remnants of cells and equipment that comes in contact with the cells are disposed appropriately as Biohazard.

Location: Ross Sea, Antarctica.

Dates: December 1, 2007 to March 14, 2008.

Permit Application No.: 2008-011.

5. Applicant: Sam Feola, Director, Raytheon Polar Services Company, 7400 S. Tucson Way, Centennial, CO 80112.

Activity for Which Permit is Requested: Introduce non-indigenous species into Antarctica. The applicant proposes to import commercially available bacterial host cell, Escherichia coli, for experimental use at the McMurdo Station Crary Lab. The experimental purpose is to generate clones of genes and gene fragments. Unused bacterial clones will be destroyed by autoclaving the liquid culture or agar plates. All laboratory plastic and glass ware used in the cloning and culturing process will be autoclaved.

Location: McMurdo Station, Crary Science and Engineering Laboratory.

Dates: October 1, 2007 to April 1, 2010.

Permit Application No.: 2008-012.

6. Applicant: Arthur L. DeVries, Department of Animal Biology, University of Illinois, Urbana, IL 61801.

Activity for Which Permit is Requested: Enter and Antarctic Specially Protected Area. The applicant proposes to collect Notothenioid fishes by light Otter trawls or fish traps. Fishing will be done in the Eastern Dallmann Bay (ASPA 153) and Western Bransfield Strait (ASPA 152) areas. Tissues and blood collections are needed for quantification of the amount of antifreeze glycoprotein that is circulated in their circulatory space. Spleen and liver tissues are also needed for isolating genomic DNS and messenger RNA to investigate the size and organization of the antifreeze glycoprotein genome, and to determine in what tissues the antifreeze glycoprotein is expressed.

Location: Eastern Dallmann Bay (ASPA 153) and Western Bransfield Strait (ASPA 152), Antarctic Peninsula.

Dates: June 15, 2008 to October 15, 2008.

Nadene G. Kennedy,
Permit Officer, Office of Polar Programs.

[FR Doc. E7-15178 Filed 8-3-07; 8:45 am]

BILLING CODE 7555-01-P